DEPARTMENT OF ENERGY

Federal Energy Regulatory Commission

[Docket No. CP06-412-000]

Puget Sound Energy, Inc., Notice of Intent To Prepare an Environmental Assessment for the Proposed Jackson Prairie Storage Deliverability Expansion Project, Request for Comments on Environmental Issues

July 28, 2006.

The staff of the Federal Energy Regulatory Commission (FERC or Commission) will prepare an environmental assessment (EA) that will discuss the environmental impacts of the Jackson Prairie (JP) Storage Deliverability Expansion Project involving abandonment, construction, and operation of facilities by Puget Sound Energy, Inc. (Puget) in Lewis County, Washington.¹ The Commission will use the EA in its decision-making process to determine whether or not to authorize the project. This notice announces the opening of the scoping period that will be used to gather environmental input from the public and interested agencies on the project. Your input will help us determine the issues that need to be evaluated in the EA. Please note that the scoping period will close on August 28, 2006.

¹ Puget's application was filed with the Commission under section 7 of the Natural Gas Act and part 157 of the Commmission's regulations.

This notice is being sent to potentially affected landowners; Federal, State, and local government agencies; elected officials; environmental and public interest groups; Native American Tribes, other interested parties; local libraries and newspapers. State and local government representatives are asked to notify their constituents of this planned project and encourage them to comment on their areas of concern.

A fact sheet prepared by the FERC entitled “An Interstate Natural Gas Facility on My Land? What Do I Need To Know?” is available for viewing on the FERC Web site (www.ferc.gov). This fact sheet addresses a number of typically asked questions, including the use of eminent domain and how to participate in the Commission's proceedings.

If you are a landowner receiving this notice, you may be contacted by a Puget representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

Summary of the Proposed Project

Puget is seeking authorization to design, construct, operate, and maintain the following new facilities at the existing JP Storage Field in Lewis County, Washington:

• Up to ten new withdrawal/injection wells with associated well connect pipeline;

• About 0.8 mile of new 24-inch-diameter pipeline to loop a portion of the existing gathering system;

• One new 10,480-horsepower (hp) compressor unit at the existing JP Compressor Station; and

• Upgrades and auxiliary facility additions at both the JP Compressor Station (total 1,551 hp increase) and JP Meter Station.

Puget also requests to abandon various facilities that would be replaced by the proposed upgraded facilities.

The existing JP Storage Field interconnects with Northwest Pipeline Corporation's transmission system which provides natural gas supplies to markets in the Pacific Northwest. Puget's proposed new and upgraded facilities would allow it to increase maximum firm withdrawal deliverability of the JP Storage Field from 850 million cubic feet per day (MMcfd) to 1,150 MMcfd. Puget is expected to commence construction for the drilling of up to five of the new wells and installation of associated well connect lines in the spring of 2007. Production rate tests on the initial wells would be conducted to help determine the minimum number of wells required to achieve the desired 300 MMcfd. The remaining facilities are anticipated to be constructed in 2008.

The general location of Puget's proposed facilities is shown on the map attached as Appendix 1.²

² The appendices referenced in this notice are not being printed in the Federal Register. Copies of this notice, other than appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Puget states that all of the proposed activities associated with this project would occur on private lands owned or leased by the JP Storage Field. About 29.66 acres of land would be affected during construction and about 22.23 acres would be permanently maintained for operation of the proposed facilities. Six of the new withdrawal well sites would be located on new graveled well pads covering an area of 150 feet by 250 feet for drilling operations; the remaining four well sites would be co-located on two new graveled well pads which would require an area of 150 feet by 300 feet.

The new 24-inch loop gathering line would be constructed within a 90-foot-wide right-of-way (ROW); and Puget is proposing to maintain a 75-foot-wide permanent ROW along the pipeline route. The total surface disturbance for the well connect lines and well pads would require about 12.22 acres. These new well connect lines would range from 6- to 10-inch-diameter pipeline and would tie-in to the JP gathering line.

Puget would generally use established access roads; however, one new access road would need to be constructed and improvements on an existing two-track road would be necessary. Most modifications to the JP Compressor Station would occur within the station boundaries; however, the station would need to be expanded 0.51 acre to accommodate the new gas coolers. All of the modifications to the JP Meter Station would occur within the existing footprint. The existing Chehalis Compressor Station, which is about 2 miles southwest of the JP Storage Field, would be used as a pipe storage yard for the project.

The EA Process

We ³ are preparing the EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA.

³ “We”, “us”, and “our”, refer to the environmental staff of the Office of Energy Projects (OEP).

By this notice, we are also asking Federal, State, and local agencies with jurisdiction and/or special expertise with respect to environmental issues to formally cooperate with us in the preparation of the EA. Agencies that would like to request cooperating status should follow the instructions for filing comments below (see Public Participation).

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

Currently Identified Environmental Issues

In the EA, we will discuss impacts that could occur as a result of the construction and operation of the project. We will also evaluate possible alternatives to the proposed project or portions of the project.

We have already identified some issues that we think deserve attention based on a preliminary review of the proposed facilities and the environmental information provided by Puget. This preliminary list of issues may be changed based on your comments and our analysis.

• Potential impacts on local Noise Quality associated with construction and operation.

• Potential impacts on Water Use and Quality.

• Potential impacts on Land Use from a 75-foot-wide permanent ROW.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1.

• Reference Docket No. CP06-412-000.

• Mail your comments so that they will be received in Washington, DC on or before August 28, 2006.

Please note that the Commission strongly encourages electronic filing of any comments or interventions or protests to this proceeding. See 18 CFR 385.2001(a)(1)(iii) and the instructions on the Commission's Web site at http://www.ferc.gov under the “e-Filing” link and the link to the User's Guide. Before you can file comments you will need to create an account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's e-Filing system) or 14 paper copies of its filings to the Secretary of the Commission and must send a copy of its filings to all other parties on the Commission's service list for this proceeding. If you want to become an intervenor you must file a motion to intervene according to Rule 214 of the Commission's Rules of Practice and Procedure (18 CFR 385.214).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Magalie R. Salas,
Secretary.

[FR Doc. E6-12722 Filed 8-4-06; 8:45 am]

BILLING CODE 6450-01-P